DEPARTMENT OF COMMERCE

National Oceanic and Atmospheric Administration

[I.D. 032800D]

Groundfish Fisheries of the Bering Sea/Aleutian Islands Area and the Gulf of Alaska

AGENCY: National Marine Fisheries Service (NMFS), National Oceanic and Atmospheric Administration (NOAA), Commerce.

ACTION: Notice of availability; request for comments.

SUMMARY: NMFS is publishing a report summarizing the results of the scoping process used to initiate a programmatic supplemental environmental impact statement (SEIS) on Federal groundfish fishery management in the Exclusive Economic Zone (EEZ) off Alaska. The Scoping Report summarizes the scoping process, identifies issues raised during scoping, and describes the SEIS structure and content including alternatives for analysis that resulted from scoping.

DATES: Comments on the Scoping Report may be submitted until May 1, 2000.

ADDRESSES: Copies of the Scoping Report may be obtained from Steven K. Davis, phone or e-mail: 907-271-3523, or from steven.k.davis@noaa.gov or write to: NMFS, 222 West 7th Street, Room 517, Anchorage, AK 99508, or Carol Tocco, phone or e-mail: 907-586-7032 or carol.tocco@noaa.gov or write to: NMFS, Alaska Region, 709 West 9th Street, P.O. Box 21668, Juneau, AK 99802. The Scoping Report also is available on the NMFS, Alaska Region's World Wide Web site at www.fakr.noaa.gov.

Written comments on the scoping summary report should be submitted to Lori Gravel, National Marine Fisheries Service, Alaska Region, P.O. Box 21668, Juneau, AK 99802. Comments also may be hand delivered to Room 443-5, in the Federal Office Building, 907 West 9th Street, Juneau, AK, or sent via facsimile (fax) to 907-586-7255. Comments will not be accepted if submitted via e-mail or Internet.

FOR FURTHER INFORMATION CONTACT: Steven K. Davis, NMFS, 907-271-3523 or steven.k.davis@noaa.gov.

SUPPLEMENTARY INFORMATION: (1) Alternative 1 (no action), continue with existing management policy;

(2) Alternative 2, adopt a new management policy framework that emphasizes increased protection for marine mammals and seabirds;

(3) Alternative 3, adopt a new management policy framework that emphasizes increased protection for target groundfish species;

(4) Alternative 4, adopt a new management policy framework that emphasizes increased protection for non-target and forage fish species;

(5) Alternative 5, adopt a new management policy framework that emphasizes increased protection for fish habitat; and

(6) Alternative 6, adopt a new management policy framework that emphasizes an increase in long-term socioeconomic benefits.

Dated: March 31, 2000.
Bruce Morehead,
Director, Office of Sustainable Fisheries, National Marine Fisheries Service.

[FR Doc. 00-8397 Filed 3-31-00; 4:37 pm]

BILLING CODE 3510-22-F